NATIONAL AERONAUTICS AND SPACE ADMINISTRATION

[Notice (02-118)]

Government-Owned Inventions, Available for Licensing

ACTION: Notice of Availability of Inventions for Licensing.

SUMMARY: The invention listed below is assigned to the National Aeronautics and Space Administration, have been filed in the United States Patent and Trademark Office, and are available for licensing.

DATES: September 27, 2002.

FOR FURTHER INFORMATION CONTACT: Randy Heald, Patent Counsel, Kennedy Space Center, Mail Code CC-A, Kennedy Space Flight Center, FL 32899; telephone (321) 867-7214, fax (321) 867-1817.

NASA Case No. KSC-12049: Liquid Galvanic Coatings for Protection of Imbedded Metals;

NASA Case No. KSC-12139: Thermodynamic Pressure/Temperature Transducer Health Check;

NASA Case No. KSC-12183: Characterizing Sensors;

NASA Case No. KSC-12190: A Novel Ferromagnetic Conducting Lignosulfonic Acid-Doped Polyaniline;

NASA Case No. KSC-12255: Leak And Pipe Detection Method And System;

NASA Case No. KSC-12201: A Scaling Device For Photographic Images;

NASA Case No. KSC-12209: Injection Nozzle For Hydrogen Peroxide With Ultraviolet Light Activation;

NASA Case No. KSC-11979: Diaminobenzoquinones as Corrosion Inhibitory Coating Additives;

NASA Case No. KSC-12205: Apparatus And Method For Thermal Performance Testing Of Pipelines And Piping Systems;

NASA Case No. KSC-12221: Multi Sensor Transducer And Weight Factor—Combined With KSC-12359;

NASA Case No. KSC-12285: Ablative Composite;

NASA Case No. KSC-12092-1: Thermal Insulation System And Method;

NASA Case No. KSC-12107: Methods of Testing Thermal Insulation and Associated Test Apparatus;

NASA Case No. KSC-12108: Multi-Purpose Thermal Insulation Test Apparatus;

NASA Case No. KSC-12191: Corrosion Prevention Of Cold Rolled Steel Using Water Dispensible Lignosulfonic Acid Doped Polyaniline;

NASA Case No. SSC-00134-1: Pseudo-Brewster-Angle Thermal Infrared Radiometer;

NASA Case No. SSC-00124-1: Radiant Temperature Nulling Radiometer.

Dated: September 20, 2002
Robert M. Stephens,
Deputy General Counsel.

[FR Doc. 02-24527 Filed 9-26-02; 8:45 am]

BILLING CODE 7510-01-P